DEPARTMENT OF THE INTERIOR

National Park Service

[N6621; NPS-WASO-NAGPRA-NPS0041351; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FMNH) has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to David Blackburn, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FMNH, and additional information on the determinations in this notice, including the results of consultation, can be found in its inventory or related records. The National Park Service is not responsible for the determinations in this notice.

Abstract of Information Available

Sarasota Bay Mound (8SO44) is a sand burial mound that overlooks Sarasota Bay. It dates to the Weedon Island (A.D. 450-1000) and Safety Harbor (A.D. 1000-1500) periods. This site includes multiple burials, many disturbed by landscaping and plumbing activities throughout the years. In 1920, Dr. Charles T. McClintock built a house on top of the mound. Consequently, the mound's height was cut down for the house to be built and during this leveling, pottery and human remains were found. In the 1960s, the house was bought by Earl Putnam, a Canadian developer, who agreed to a salvage excavation before condos were built. Ripley P. Bullen of FLMNH came in and led the excavations of this mound, where Ancestors and associated funerary objects were found. Sarasota Bay Mound was previously reported in the 2003 inventory as culturally unaffiliated with an MNI of 10 and did not report any associated funerary objects. This notice provides an updated MNI of 28, AFO, and cultural affiliation for the collection. Human remains representing at least 28 individuals have been identified. The 51 associated funerary objects include shells, pottery, lithics, and plant materials.

Cultural Affiliation

Based on the information available and the results of consultation, cultural affiliation is reasonably identified by the geographical location and acquisition history of the human remains and associated funerary objects described in this notice.

Determinations

The FMNH has determined that:

• The human remains described in this notice represent the physical remains of 28 individuals of Native American ancestry.

• The 51 objects described in this notice are reasonably believed to have been placed intentionally with or near individual human remains at the time of death or later as part of the death rite or ceremony.

• There is a connection between the human remains and associated funerary objects described in this notice and the Miccosukee Tribe of Indians and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 15, 2026. If competing requests for repatriation are received, the FMNH must determine the most appropriate requestor prior to repatriation. Requests for joint repatriation of the human remains and associated funerary objects are considered a single request and not competing requests. The FMNH is responsible for sending a copy of this notice to the Indian Tribes and Native Hawaiian organizations identified in this notice.

Authority: Native American Graves Protection and Repatriation Act, 25 U.S.C. 3003, and the implementing regulations, 43 CFR 10.10.

Dated: November 17, 2025.
Melanie O'Brien,
Manager, National NAGPRA Program.

[FR Doc. 2025-22895 Filed 12-15-25; 8:45 am]

BILLING CODE 4312-52-P